ENVIRONMENTAL PROTECTION AGENCY

[EPA-HQ-OAR-2016-0731; FRL-9976-68-OEI]

Information Collection Request Submitted to OMB for Review and Approval; Comment Request; EPA's Voluntary Natural Gas STAR Methane Challenge Program

AGENCY: Environmental Protection Agency (EPA).

ACTION: Notice.

SUMMARY: The Environmental Protection Agency has submitted an information collection request (ICR), “EPA's Voluntary Natural Gas STAR Methane Challenge Program” (EPA ICR No. 2547.01, OMB Control No. 2060-NEW) to the Office of Management and Budget (OMB) for review and approval in accordance with the Paperwork Reduction Act. This is a request for approval of a new collection. Public comments were previously requested via the Federal Register (81 FR 90355) on December 14, 2016 during a 60-day comment period, and no comments were received. This notice allows for an additional 30 days for public comments. A fuller description of the ICR is given below, including its estimated burden and cost to the public. An Agency may not conduct or sponsor and a person is not required to respond to a collection of information unless it displays a currently valid OMB control number.

DATES: Additional comments may be submitted on or before May 14, 2018.

ADDRESSES: Submit your comments, referencing Docket ID Number EPA-HQ-OAR-2016-0731, to (1) EPA online using www.regulations.gov (our preferred method), by email to a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Justin Pryor, Office of Atmospheric Programs, Climate Change Division, (6207A), Environmental Protection Agency, 1200 Pennsylvania Ave. NW, Washington, DC 20460; telephone number: 202-343-9258; fax number: 202-343-2342; email address: Pryor.Justin@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Natural Gas STAR Methane Challenge Program is a voluntary program sponsored by the U.S. Environmental Protection Agency (EPA) that provides an innovative voluntary mechanism through which oil and natural gas companies can make specific, ambitious commitments to reduce methane emissions. This Program is an integral part of the EPA's ongoing commitment to address methane emissions and global climate change, and was developed through extensive stakeholder engagement and support from companies and trade organizations in the oil and gas industry. Methane is the primary component of natural gas and a potent greenhouse gas. The Program works to encourage oil and natural gas companies to go above and beyond existing regulatory action and make meaningful and transparent commitments to yield significant methane emissions reductions in a quick, flexible, cost-effective way. Transparency in comprehensively tracking company commitments through the non-confidential data reported by Methane Challenge partners is a key feature of the Program, and enables partners to highlight emissions reductions achieved through voluntary action taken. Implementation of the Methane Challenge Program's two commitment options, the Best Management Practice Commitment and the ONE Future Emissions Intensity Commitment, improves operational efficiency, saves partner companies money, and enhances the protection of the environment.

Forms: Methane Challenge Program partners are required to sign and submit to EPA a Partnership Agreement (PA) that describes the terms of participation in the Program. The PA forms covered under this ICR include: Methane Challenge Program Partnership Agreement—Best Management Practice Commitment; and, Methane Challenge Program Partnership Agreement—ONE Future Commitment. Partners must complete and submit a Methane Challenge Implementation Plan within six months of signing the MOU. The Implementation Plan forms covered under this ICR include: Methane Challenge Program Implementation Plan Template—BMP Commitment; and, Methane Challenge Program Implementation Plan Template—ONE Future Commitment. After one full calendar year of participation in the Program, EPA requires partners to submit a specific set of data documenting the previous year's methane emissions, activity data, and reduction activities. The annual reporting forms covered under this ICR include: Best Management Practice Commitment Reporting Forms. The annual reporting forms for the ONE Future Commitment Option are to be developed but will follow the requirements set forth in the following document, available on the program website: Supplemental Technical Information for ONE Future Commitment Option. Upon becoming a partner in the Methane Challenge Program, companies are given an opportunity to draft and submit a Historical Actions Fact Sheet, which provides information on historical methane reduction actions taken prior to joining Methane Challenge. A two-page fact sheet template is made available to partner companies and allows entry of up to five key methane mitigation activities, including text, photos, and graphics. Submitting this document is not a requirement of the Methane Challenge Program partnership. The fact sheet covered under this ICR is: Historical Actions Fact Sheet Template.

Respondents/affected entities: The Natural Gas STAR Methane Challenge Program is open to companies in the oil production, and production, gathering and boosting, processing, transmission and storage, and distribution segments of the natural gas industry.

Respondent's obligation to respond: Voluntary.

Estimated number of respondents: 58 (total projected partners over the three-year ICR period).

Frequency of response: Annual.

Total estimated annual burden: 2,978 hours. Burden is defined at 5 CFR 1320.03(b).

Total estimated annual cost: $268,952, which includes $0 annualized capital or operation & maintenance costs.

Courtney Kerwin,
Director, Regulatory Support Division.

[FR Doc. 2018-07542 Filed 4-11-18; 8:45 am]

BILLING CODE 6560-50-P